DEPARTMENT OF ENERGY

Federal Energy Regulatory Commission

[Docket No. PF05-6-000]

Transcontinental Gas Pipe Line Corporation; Notice of Intent To Prepare an Environmental Assessment for the Proposed Leidy to Long Island Expansion Project, Request for Comments on Environmental Issues and Notice of Scoping Meetings

May 25, 2005.

The staff of the Federal Energy Regulatory Commission (FERC or Commission) will prepare an environmental assessment (EA) that will discuss the environmental impacts of Transcontinental Gas Pipe Line Corporation's (Transco) planned Leidy to Long Island Expansion Project located in Pennsylvania, New Jersey, and New York. This notice announces the opening of the scoping process we will use to gather input from the public and interested agencies on the projects. Your input will help the Commission staff determine which issues need to be evaluated in the EA. Please note that the scoping period will close on June 24, 2005.

Comments may be submitted in written form or presented verbally at the public meetings detailed below. Further details on how to submit written comments are provided in the public participation section of this notice. In lieu of sending written comments, you are invited to attend the public scoping meetings that are scheduled as follows:

Wednesday, June 15, 2005, 7 p.m. (EST)

Days Inn, 50 Sheraton Road, Danville, PA 17821, 570-275-5510.

Thursday, June 16, 2005, 7 p.m. (EST)

Ramada Limited, 2989 Hamilton Boulevard, Highway 287, South Plainfield, NJ 07080, 908-753-8900.

This notice is being sent to affected landowners; Federal, state, and local government representatives and agencies; environmental and public interest groups; Native American tribes; other interested parties in this proceeding; and local libraries and newspapers. We encourage government representatives to notify their constituents of this planned project and encourage them to comment on their areas of concern.

Summary of the Proposed Project

Transco proposes to expand its natural gas transmission system to provide 100,000 dekatherms per day of firm transportation capacity from the Leidy Hub in Pennsylvania to Long Island, New York. More specifically, Transco seeks authority to:

• Construct approximately 4.2 miles of 42-inch-diameter pipeline loop in Lycoming County, Pennsylvania (Hughesville Loop);

• Construct approximately 5.7 miles of 42-inch-diameter pipeline loop in Luzerne County, Pennsylvania (Berwick Loop);

• Construct approximately 3.5 miles of 42-inch-diameter pipeline loop in Somerset County, New Jersey (Neshanic Loop);

• Uprate and replace approximately 1.7 miles of 42-inch-diameter pipeline in Middlesex County, New Jersey (Morgan Replacement);

• Construct and operate a new 10,000-horsepower compressor station in Middlesex County, New Jersey;

• Uprate approximately 35 miles of existing 26-inch-diameter pipeline both on and offshore of Monmouth County, New Jersey, and Queens and Nassau Counties, New York (Lower Bay Uprate), with no replacement work anticipated; and

• Upgrade existing meter and regulator facilities.

Location maps depicting Transco's proposed facilities and alternate sites are provided in Appendix 1.¹

¹ The appendices referenced in this notice are not being printed in the Federal Register. Copies are available on the Commission's Web site (excluding maps) at the “eLibrary” link or from the Commission(s Public Reference Room or call (202) 502-8371. For instructions on connecting to eLibrary refer to the end of this notice. Copies of the appendices were sent to all those receiving this notice in the mail.

Currently Identified Environmental Issues

At this time no formal application has been filed with the FERC. For this project, the FERC staff has initiated its NEPA review prior to receiving the application. The purpose of our NEPA Pre-Filing Process is to involve interested stakeholders early in project planning and to identify and resolve issues before an application is filed with the FERC.

We have already identified several issues that we think deserve attention based on a preliminary review of the proposed facilities, environmental information provided by Transco, and comments gathered from concerned citizens at Transco's open houses. This preliminary list of issues may be changed based on your comments and our analysis.

• Compressor station proximity to residential neighborhoods;

• Morgan Replacement proximity to planned residential developments;

• Safety concerns of the compressor station and pipeline;

• Potential impacts on land included in the New Jersey Department of Environmental Protection Green Acres Program;

• Potential impacts on Farmland Preservation Property;

• Potential impacts on Shickshinny Creek; and

• Potential impacts on wetlands.

The EA Process

The FERC will use the EA to consider the environmental impact that could result if it issues Transco a Certificate of Public Convenience and Necessity.

This notice formally announces our preparation of the EA and the beginning of the process referred to as “scoping.” We ² are soliciting input from the public and interested agencies to help us focus the analysis in the EA on the potentially significant environmental issues related to the proposed action.

² “We,” “us,” and “our” refer to the environmental staff of the Office of Energy Projects.

Our independent analysis of the issues will be included in an EA that will be prepared for the project. Our evaluation will also include possible alternatives to the proposed project or portions of the project, and we will make recommendations on how to lessen or avoid impacts on the various resource areas of concern.

The EA will be mailed to federal, state, and local government agencies; elected officials; environmental and public interest groups; Native American tribes; affected landowners; other interested parties; local libraries and newspapers; and the FERC(s official service list for this proceeding. A 30-day comment period will be allotted for review of the EA. We will consider all comments submitted on the EA in any Commission Order that is issued for the project.

We are currently involved in discussions with other jurisdictional agencies to identify their issues and concerns. These agencies include the U.S. Army Corps of Engineers, National Oceanic and Atmospheric Administration, U.S. Fish and Wildlife Service, New Jersey Department of Environmental Protection, Pennsylvania Department of Environmental Protection, and the U.S. Department of Transportation. By this notice, we are asking these and other federal, state, and local agencies with jurisdiction and/or special expertise with respect to environmental issues to formally cooperate with us in the preparation of the EA. Agencies that would like to request cooperating status should follow the instructions for filing comments provided below.

Public Participation

You can make a difference by providing us with your specific comments or concerns about the proposals. Your comments should focus on the potential environmental effects, reasonable alternatives and measures to avoid or lessen environmental impact. The more specific your comments, the more useful they will be. To ensure that your comments are timely and properly recorded, please mail your comments so that they will be received in Washington, DC on or before June 24, 2005 and carefully follow these instructions:

• Send an original and two copies of your letter to: Magalie R. Salas, Secretary, Federal Energy Regulatory Commission, 888 First St., N.E., Room 1A, Washington, DC 20426;

• Label one copy of the comments for the attention of Gas Branch 3, DG2E; and

• Reference Docket No. PF05-6-000 on the original and both copies.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

When Transco submits its application for authorization to construct and operate the Leidy to Long Island Expansion Project, the Commission will publish a Notice of Application in the Federal Register and will establish a deadline for interested persons to intervene in the proceeding. Because the Commission's Pre-filing Process occurs before an application to begin a proceeding is officially filed, petitions to intervene during this process are premature and will not be accepted by the Commission.

Environmental Mailing List

If you wish to remain on the environmental mailing list, please return the Mailing List Retention Form included in Appendix 2. If you do not return this form, you will be taken off our mailing list.

Availability of Additional Information

Additional information about the project is available from the Commission's Office of External Affairs at 1-866-208 FERC (3372) or on the FERC Internet Web site (http://www.ferc.gov). Using the “eLibrary” link, select (General Search( from the eLibrary menu, enter the selected date range and (Docket Number( (i.e., PF05-6-000), and follow the instructions. Searches may also be done using the phrase (Leidy to Long Island Expansion( in the (Text Search( field. For assistance with access to eLibrary, the helpline can be reached at 1-866-208-3676, TTY (202) 502-8659, or at FERCOnlineSupport@ ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information. Finally, Transco has established an Internet Web site for its project at http://www.williams.com/northeast expansion. The website includes a project overview, contact information, regulatory overview, and construction procedures.

Linda Mitry,
Deputy Secretary.

[FR Doc. E5-2781 Filed 6-1-05; 8:45 am]

BILLING CODE 6717-01-P